DEPARTMENT OF COMMERCE

International Trade Administration

[A-555-005, A-542-806]

Paper File Folders From Cambodia and Sri Lanka: Postponement of Preliminary Determinations in the Less-Than-Fair-Value Investigations

AGENCY: Enforcement and Compliance, International Trade Administration, Department of Commerce.

DATES: Applicable February 24, 2025.

FOR FURTHER INFORMATION CONTACT: Kelsie Hohenberger (Cambodia) or Rachel Jennings (Sri Lanka), AD/CVD Operations, Office V, Enforcement and Compliance, International Trade Administration, U.S. Department of Commerce, 1401 Constitution Avenue NW, Washington, DC 20230; telephone: (202) 482-2517 or (202) 482-1110, respectively.

SUPPLEMENTARY INFORMATION:

Background

On November 12, 2024, the U.S. Department of Commerce (Commerce) initiated less-than-fair-value (LTFV) investigations of imports of paper file folders from Cambodia and Sri Lanka.¹ Currently, the preliminary determinations of these investigations are due no later than April 1, 2025.

¹ See Paper File Folders from Cambodia and Sri Lanka: Initiation of Less-Than-Fair-Value Investigations, 89 FR 91322 (November 19, 2024) (Initiation Notice).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 11, 2025, the petitioner ² submitted a timely request that Commerce postpone the preliminary determinations in these LTFV investigations.³ The petitioner stated that it requests postponement because additional time will allow Commerce to fully evaluate the initial questionnaire responses submitted by the mandatory respondents and issue supplemental questionnaires as necessary.⁴ In addition, the petitioner requests postponement to keep the cases on the same schedule with the U.S. International Trade Commission.⁵

² The petitioner is the Coalition of Domestic Folder Manufacturers.

³ See Petitioner's Letter, “Petitioner's Request for Postponement of the Preliminary Determinations,” dated February 11, 2025.

⁴ Id.

⁵ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than May 21, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: February 18, 2025.
Christopher Abbott,
Deputy Assistant Secretary for Policy and Negotiations, performing the non-exclusive functions and duties of the Assistant Secretary for Enforcement and Compliance.

[FR Doc. 2025-02983 Filed 2-21-25; 8:45 am]

BILLING CODE 3510-DS-P